DEPARTMENT OF DEFENSE

Department of the Navy

DEPARTMENT OF THE INTERIOR

Bureau of Land Management

Record of Decision for the Proposed Fallon Range Training Complex Requirements at Naval Air Station Fallon, Nevada

AGENCY: Department of the Navy, Department of Defense, Bureau of Land Management, Department of the Interior.

ACTION: Notice of Record of Decision.

SUMMARY: The Department of the Navy and the Bureau of Land Management, after carefully weighing the environmental and socioeconomic implications, public input, and technical considerations of the alternative studied, announce their combined decisions to implement the preferred alternative, Alternative II, identified in the co-authored Final Environmental Impact Statement for the Proposed Fallon Range Training Complex Requirements at Naval Air Station Fallon, Nevada. This action consists of improvements to the Fallon Range Training Complex to meet Chief of Naval Operations-mandated training requirements; improvements will occur on existing Navy-administered lands and on BLM-administered public lands.

FOR FURTHER INFORMATION CONTACT: Naval Strike and Air Warfare Center at Naval Air Station Fallon, Nevada, Attn: Mr. John Smith, EIS Team Member, 4755 Pasture Road, Fallon, Nevada 89496-5000, telephone (775) 426-2103/2101, fax (775) 426-2104, e-mail smithj@nsawc.navy.mil or Bureau of Land Management Carson City Field Office, Attn: Ms. Terri Knutson EIS Project Manager, 5665 Morgan Mill Road, Carson City, Nevada 89701, telephone (775) 885-6156, fax (775) 8885-6147, e-mail tknutson@nv.blm.gov.

SUPPLEMENTARY INFORMATION: The text of the entire Record of Decision is provided as follows:

The Department of the Navy (Navy) and Bureau of Land Management (BLM), pursuant to section 102 (c) of the National Environmental Policy Act (NEPA) of 1969 (42 U.S.C. section 4331 et seq.) and the regulations of the Council on Environmental Quality (CEQ) that implement NEPA procedures (40 CFR parts 1500-1508), hereby announce their decision to implement changes necessary at the Fallon Range Training Complex to meet Chief of Naval Operations-mandated training requirements resulting from the real-world threat environment. These changes will allow Navy to update and consolidate Navy training on public and Navy-administered lands and update existing airspace parameters overlying these lands.

Changes include: Developing new fixed and mobile Electronic Warfare (EW) sites; developing new Tracking Instrumentation Subsystem (TIS) sites; developing additional targets at B-17 and B-19; laying fiber optic cable to B-16 and B-19; utilizing Navy-administered lands in Dixie Valley for close air support training; performing Hellfire missile and high altitude weapons delivery training at B-17 and B-20; and proposing changes to special use airspace.

Process

A Notice of Intent to prepare an Environmental Impact Statement (EIS) for the proposed Fallon Range Training Complex Requirements at the Naval Air Station Fallon, Nevada was published in the Federal Register on December 21, 1998. Four public scoping meetings were held on January 20, 21, 27, and 28, 1999, in Eureka, Austin, Fallon, and Reno, Nevada, respectively.

A Notice of Availability (NOA) for the Draft EIS was published in the Federal Register on August 13, 1999. Public Hearings were held on September 8, 9, 21, 22, and 23, 1999, in Eureka, Austin, Gabbs, Fallon, and Reno, Nevada, respectively. Comments were received from 71 agencies, organizations, and individuals during he 90-day public comment period on the Draft EIS. The Final EIS addressed all oral and written comments.

The NOA for the Final EIS was published in the Federal Register on February 4, 2000. Newspaper advertisements noting the availability of the Final EIS were published in local and regional newspapers. Navy and BLM received 4 comment letters during the 30-day public comment period. All comments received were considered when preparing this ROD.

This ROD documents Navy's and BLM's decisions based upon the analysis of the effects of the proposed action and alternatives in the EIS. The jointly prepared Navy/BLM EIS allowed BLM to ensure that Navy actions proposed on public lands meet the BLM mission of managing public lands for multiple use. This EIS satisfies NEPA requirements for Navy-administered lands and BLM issuance of rights-of-way for Navy actions on public lands.

Airspace changes require rulemaking in accordance with Federal Aviation Administration (FAA) Order 7400.2. Navy will submit a request to FAA for the airspace changes outlined in this ROD. The FAA will issue a separate ROD after its rulemaking process.

Background

This EIS was based on the Fallon Range Training Complex Requirements Document (Training Requirements Document) prepared by the Naval Strike and Air Warfare Center (NSAWC) at NAS Fallon, Nevada, in November 1998. The Training Requirements Document assessed and reported current and future training needs and operational requirements for NAS Fallon. The Training Requirements Document outlined changes necessary to both update and consolidate Navy training on public and Navy-administered lands and update existing airspace parameters overlying these lands. Alternatives were developed with input from federal, state, and local agencies, interested parties, Native American tribes, and an independent validation entity (Institute for Defense Analysis).

Proposed Action and Alternatives

The proposed action in this EIS included developing four 5.7-acre fixed EW sites on public lands in Edwards Creek Valley, Gabbs Valley, Smith Creek Valley, and Big Smoky Valley, three fixed EW sites on Navy-administered land in north Dixie Valley, at B-19, and at B-20, and up to 15 mobile sites on Navy-administered lands in the Dixie Valley; developing four 16-foot by 16-foot TIS sites on BLM-administered lands; developing live mortar ranges and helicopter ordnance and gunnery targets at B-17 and a rough terrain helicopter gunnery target at B-19; running fiber optic cable from NAS Fallon to the B-16 and B-19 training ranges; performing close air support training, including laser spotting, on Navy-administered lands in the Dixie Valley; performing Hellfire missile training and high altitude weapons delivery training at the B-17 and B-20 training ranges (new restricted area airspace will be needed above existing restricted area airspace to 35,000 feet above mean sea level (flight level (FL) 350) to accommodate high altitude weapons delivery training; and making adjustments to special use airspace to change the use times of the Reno MOA from 10 AM to 6 PM, Tuesday through Saturday, to 8 AM to 6 PM, Monday through Friday.

Alternative I included the same actions described for the proposed action except that the fixed EW sites on public lands will be reduced in size and the smaller fixed EW sites in the eastern valleys will be supplemented with four or five mobile EW sites up to one-third acre per site in each valley for a total of 18 mobile sites.

Alternative II included the same actions described for the proposed action except that only two 5.7-acre fixed site will be developed on public lands in Edwards Creek Valley and Gabbs Valley, and no fixed EW sites will be developed in Smith Creek Valley and Big Smoky Valley. To compensate for the lack of fixed EW sites in these two valleys, fixed communication relay towers on one-tenth acre of land will be developed. Five mobile EW sites will be developed in each of the four valleys for a total of 20 mobile sites.

Alternative III included the same actions described for the proposed action except that no new fixed EW sites will be developed on public lands. To compensate for the lack of fixed EW sites in the four eastern valleys, one fixed communication hub on one-tenth acre of land will be developed in Smith Creek Valley, three combination fixed communication hubs/mobile EW sites will be developed in the other valleys (one site per valley), and 19 mobile EW sites will be developed (up to five sites per valley). Also under Alternative III, the Navy will request a lower ceiling (FL 300 ) for new restricted area airspace.

Under the No Action Alternative, no new EW sites, TIS sites, B-17 and B-19 target improvements, or fiber optic cable routes will be developed. Airspace changes, Hellfire missile training, and high altitude weapons delivery training (above 18,000 feet MSL) will not occur. Present training activities will continue under existing conditions.

Measures were incorporated into the Proposed Action and Alternatives to reduce the level of impact to the environment. These measures consist of operating procedures Navy routinely applies to similar activities on its lands and that are required by the BLM for actions taken on public lands. These standard operating procedures include: Conducting biological and cultural resource surveys prior to surface disturbance; reducing visual effects by painting, shielding, or netting structures; reducing effects to roads; complying with all federal, state, and local government rules, regulations, and guidelines governing hazardous material use, storage, and transport; conducting laser operations in a manner to avoid human and environmental hazards; implementing noxious weed control measures and reclamation of abandoned sites; and continuing to coordinate aircraft activities with the FAA.

The environmentally preferred alternative is generally one that avoids or minimizes environmental impacts or results in a net beneficial environmental effect. In this case, the No Action Alternative is the environmentally preferred alternative because it will not result in any additional ground disturbance or changes in visual resources, although it will not allow for the increased flight altitude and corresponding reduction in noise levels that will be achieved in some of the other alternatives. The environmentally preferred alternative was not selected because it will be substantially less effective in meeting tactical and training mission requirements as set out in the Training Requirements Document. Alternative III is also environmentally preferable to the selected alternative, and will be as, or more, effective in meeting tactical and training requirements. Alternative III was not selected because communication technology is not yet sufficiently advanced or readily available to allow Navy to implement an all-mobile alternative at this time. Navy does not have the mobile EW equipment necessary to implement an all-mobile alternative, and developing and procuring the equipment necessary for the all-mobile alternative will be cost prohibitive. Navy will continue to monitor advances in communications technology and will consider whether to propose an all-mobile alternative in the future. If an all-mobile alternative becomes practical, Navy and BLM will determine, what, if any, additional environmental analysis is required before implementing such a proposal.

Based upon our review of the analysis of alternatives and public comments receiving during the NEPA process, Navy and BLM have selected Alternative II (the identified preferred alternative) with some modification to the two fixed EW sites on BLM-administered lands. Alternative II included two fixed 5.7-acre EW sites on public lands in Edwards Creek and Gabbs Valleys. The size of these two sites will be reduced to 3.0 acres each to decrease the area of surface disturbance on public lands. One fixed communications relay tower site in each of the Big Smoky and Smith Creek Valleys, and five mobile EW sites in each of the four valleys will be installed. Alternative II will also develop three fixed EW sites on Navy-administered land in North Dixie Valley, at B-19, and at B-20, up to 15 mobile EW sites on Navy administered lands in the Dixie Valley, four TIS sites on BLM-administered lands, live mortar ranges and helicopter ordnance and gunnery targets at B-17, and a rough terrain helicopter gunnery target at B-19. Other actions included in Alternative II that will be implemented are: Running fiber optic cable from NAS Fallon to the B-16 and B-19 training ranges, performing close air support training, including laser spotting on Navy-administered lands in the Dixie Valley, performing Hellfire missile training and high altitude weapons delivery training at B-17 and B-20 training ranges, developing new vertical restricted airspace up to 35,000 feet MSL above existing restricted airspace in order to accommodate high altitude weapons delivery training, and making adjustments to special use airspace to change the use times of the Reno MOA from 10:00 AM to 6:00 PM, Tuesday through Saturday, to 8:00 AM to 6:00 PM, Monday through Friday. Alternative II addresses concerns voiced during the public review period on the greater sensitivity of Smith Creek Valley and Big Smoky Valley as well as meets Navy's training requirements.

Environmental Impacts

In the EIS, Navy and BLM analyzed direct, indirect, and cumulative effects to land use, airspace use, biological resources, geology, soils, and mineral resources, water resources, cultural resources, Native American religious concerns, visual resources, environmental justice and socioeconomic, recreation, grazing and wild horse and burro management, air quality, noise, public safety, and hazardous materials. There were no significant environmental impacts associated with the selected alternative; however, Navy and BLM will implement the standard operating procedures described both above and in the EIS, to reduce even further the impacts of the actions being taken. With the adoption of these standard operating procedures, Navy and BLM have exercised all practicable means to avoid or minimize harm from the alternative selected. Nevertheless, Navy and BLM will meet annually to review implementation of the selected alternative.

Response to Comments Received Regarding the Final Environmental Impact Statement

Navy and BLM received 4 comment letters on the Final EIS: one from a state agency, one from a special interest group, and two from individuals. The comments from the state agency and the special interest group were previously addressed in the Final EIS. One individual's comments were outside of the scope of this EIS and require no further response. The other individual's comments misinterpreted the information presented in the EIS regarding the proposed change in the airspace ceiling. As discussed in Section 4.2 of the Final EIS, the proposed new airspace ceiling will be created on top of existing restricted airspace that overlies Navy's bombing ranges. This proposed change will not be applied throughout the FRTC MOA.

Conclusions

In formulating combined decisions on implementing changes to update and consolidate training at the Fallon Range Training Complex, including changes on existing Navy-administered lands and on public lands administered by the BLM, Navy and BLM have considered the environmental and socioeconomic effects of the proposed action and alternatives and public input received on the Draft and final EISs.

After careful deliberation, we have determined that the preferred alternative, with reduced EW site size, provides the best combination of effectively meeting the training requirements of NAS Fallon, responding to the public concerns, and minimizing environmental effects.

Therefore, the Department of the Navy and the Bureau of Land Management have decided to implement the actions identified in the preferred alternative, as modified. Actions requiring FAA approval will be proposed for FAA rulemaking and will only be implemented if approved.

Although this EIS has been jointly prepared and has resulted in combined decisions, each agency's decision has been made pursuant to its individual responsibilities and authorities and each agency shall be responsible for its implementation.

BLM Appeals Process

If a party other than the Navy is aggrieved by the approval of this EIS, the decision regarding use of public lands may be appealed to the Interior Board of Land Appeals, Office of the Secretary, in accordance with the regulations contained in 43 CFR, part 4 and Form 1842-1. If an appeal is made, a notice of appeal must be filed at the Bureau of Land Management, Nevada State Office, 850 Harvard Way, PO Box 12000, Reno, Nevada 89520-0006 within 30 days after the date this decision has been issued. The appellant has the burden of showing that the decision being appealed is in error. A statement of reasons and any arguments the appellant wishes to present to justify reversal or modification of this decision should be filed at the same time as the appeal.

If the appellant wishes to file a petition (request), pursuant to 43 CFR 4.21, for a stay (suspension) of the effectiveness of this decision during the time that the appeal is being reviewed by the Board, the petition for a stay must accompany the notice of appeal. A petition for a stay is required to show sufficient justification based on the standards for obtaining a stay. Copies of the notice of appeal and petition for a stay must also be submitted to the appropriate Office of the Solicitor (see 43 CFR 4.413) at the same time the original documents are filed with this office. If the appellant requests a stay, the appellant has the burden of proof to demonstrate that a stay should be granted.

Standards for Obtaining a Stay

Except as otherwise provided by law or pertinent regulation, a petition for a stay of a decision pending appeal shall show sufficient justification based on the following standards: (1) The relative harm to the parties if the stay is granted or denied, (2) the likelihood of the appellant's success on the merits, (3) the likelihood of immediate and irreparable harm if the stay is not granted and (4) whether the public interest favors granting the stay.

Dated: April 10, 2000.
Elsie Munsell,
Deputy Assistant Secretary of the Navy (Environment and Safety).
Dated: April 4, 2000
John Singlaub,
Manager, Carson City Field Office.

[FR Doc. 00-9368 Filed 4-13-00; 8:45 am]

BILLING CODE 3810-FF-M